DEPARTMENT OF THE INTERIOR

National Park Service

[2253-665]

Notice of Inventory Completion: U.S. Department of the Interior, National Park Service, Dinosaur National Monument, Dinosaur, CO

AGENCY: National Park Service, Interior.

ACTION: Notice.

SUMMARY: The U.S. Department of the Interior, National Park Service, Dinosaur National Monument, Dinosaur, CO, has completed an inventory of human remains and associated funerary objects, in consultation with the appropriate Indian tribes, and has determined that there is no cultural affiliation between the remains and any present-day tribe. Representatives of any Indian tribe that believes itself to be culturally affiliated with the human remains may contact Dinosaur National Monument. Disposition of the human remains and associated funerary objects to the tribes stated below may occur if no additional requestors come forward.

DATES: Representatives of any Indian tribe that believes it has a cultural affiliation with the human remains should contact Dinosaur National Monument at the address below by March 11, 2011.

ADDRESSES: Any tribe that believes it has a cultural affiliation with the human remains should contact Mary Risser, Superintendent, Dinosaur National Monument, 4545 Highway 40, Dinosaur, CO 81610, telephone (970) 374-3001.

SUPPLEMENTARY INFORMATION: Notice is here given in accordance with the Native American Graves Protection and Repatriation Act (NAGPRA), 25 U.S.C. 3003, of the completion of an inventory of human remains and associated funerary objects in the possession and control of Dinosaur National Monument, Dinosaur, CO. The human remains and associated funerary objects were removed from six sites in Moffat County, CO, and Uintah County, UT.

This notice is published as part of the National Park Service's administrative responsibilities under NAGPRA, 25 U.S.C. 3003(d)(3) and 43 CFR 10.11(d). The determinations in this notice are the sole responsibility of the Superintendent, Dinosaur National Monument.

Consultation

A detailed assessment of the human remains was made by Dinosaur National Monument professional staff in consultation with representatives of the Arapahoe Tribe of the Wind River Reservation, Wyoming; Comanche Nation, Oklahoma; Crow Tribe of Montana; Pueblo of Sandia, New Mexico; Pueblo of Santa Ana, New Mexico; Pueblo of Santa Clara, New Mexico; Pueblo of Zia, New Mexico; Ute Indian Tribe of the Uintah & Ouray Reservation, Utah; and the Ute Mountain Tribe of the Ute Mountain Reservation, Colorado, New Mexico & Utah. The Hopi Tribe of Arizona; Navajo Nation, Arizona, New Mexico & Utah; Ohkay Owingeh, New Mexico (formerly Pueblo of San Juan); Paiute Indian Tribe of Utah (Cedar Band of Paiutes, Kanosh Band of Paiutes, Koosharem Band of Paiutes, Indian Peaks Band of Paiutes, and Shivwits Band of Paiutes) [formerly Paiute Indian Tribe of Utah (Cedar City Band of Paiutes, Kanosh Band of Paiutes, Koosharem Band of Paiutes, Indian Peaks Band of Paiutes, and Shivwits Band of Paiutes)]; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Santo Domingo, New Mexico; Pueblo of Tesuque, New Mexico; Pueblo of Taos, New Mexico; San Juan Southern Paiute Tribe of Arizona; Shoshone-Bannock Tribes of the Fort Hall Reservation of Idaho; Southern Ute Indian Tribe of the Southern Ute Reservation, Colorado; and the Zuni Tribe of the Zuni Reservation, New Mexico, were contacted for consultation purposes but did not attend the consultation meetings.

History and Description of the Remains

In 1965, human remains representing a minimum of one individual were removed from the Deluge Shelter site, in Uintah County, UT, during professional archeological investigations under the direction of David Breternitz. No known individual was identified. No associated funerary objects are present.

In 1965, human remains representing a minimum of one individual were removed from the Arrowhead Point site, in Uintah County, UT, during professional archeological excavations under the direction of David Breternitz. No known individual was identified. No associated funerary objects are present.

In 1965, human remains representing a minimum of two individuals were removed from the Burnt House Village site, in Uintah County, UT, during professional archeological excavations under the direction of David Breternitz. No known individuals were identified. No associated funerary objects are present.

In 1989, human remains representing a minimum of two individuals were removed from the Pool Creek site, in Moffat County, CO, during pedestrian archeological survey work under the direction of J.A. Truesdale. No known individuals were identified. The 177 associated funerary objects are 169 faunal remains, 2 corn cobs, 2 pieces of juniper bark and 4 corn kernels. The remains were radiocarbon dated to 1300 + or −; 80 years before present.

In 1989, human remains representing a minimum of one individual were removed from the Juniper Ledge site, in Uintah County, UT, during pedestrian archeological survey work under the direction of J.A. Truesdale. No known individuals were identified. The four associated funerary objects are three metate fragments and one juniper mat.

In 1989, human remains representing a minimum of one individual were removed from a rock shelter site, Daniels Canyon, in Uintah County, UT, during rock art documentation and professional archeological survey work under the direction of J.A. Truesdale. An adobe storage facility may be associated with the burial. No known individuals were identified. No associated funerary objects are present.

Determinations Made by Dinosaur National Monument

• Based on the age of the remains and the archeological contexts from which they were removed, the human remains are Native American.

• Pursuant to 25 U.S.C. 3001(2), a relationship of shared group identity cannot be reasonably traced between the Native American human remains and any present-day Indian tribe.

• Multiple lines of evidence, including treaties and Executive Orders, indicate that the land from which the Native American human remains and associated funerary objects were removed is the aboriginal land of the Southern Ute Indian Tribe of the Southern Ute Reservation, Colorado; Ute Indian Tribe of the Uintah & Ouray Reservation, Utah; and Ute Mountain Tribe of the Ute Mountain Reservation, Colorado, New Mexico & Utah.

• The “Treaty with the Ute,” signed on March 3, 1868 (Stat. L, XV, 619), recognizes the “Uta (Tabeguache, Muache, Capote, Weeminuchi, Yampa, Grand River, and Uintah bands)” for both Moffat County, CO, and Uintah County, UT. The present-day tribes are identified as the Southern Ute Indian Tribe of the Southern Ute Reservation, Colorado; Ute Indian Tribe of the Uintah & Ouray Reservation, Utah; and Ute Mountain Tribe of the Ute Mountain Reservation, Colorado, New Mexico & Utah.

• An Executive Order signed on October 3, 1861, recognizes the “Uintah Uta” tribe for both Moffat County, CO, and Uintah County, UT. The present-day tribe is identified as the Ute Indian Tribe of the Uintah & Ouray Reservation, Utah.

• An Executive Order signed on November 22, 1875, recognizes the “Uta” tribe for Moffat County, CO. The present-day tribes are identified as the Southern Ute Indian Tribe of the Southern Ute Reservation, Colorado; Ute Indian Tribe of the Uintah & Ouray Reservation, Utah; and Ute Mountain Tribe of the Ute Mountain Reservation, Colorado, New Mexico & Utah.

• An Executive Order signed on January 5, 1882, recognizes the “Uta (Uncompahgre)” for Uintah County, UT. The present-day tribes are identified as the Southern Ute Indian Tribe of the Southern Ute Reservation, Colorado; Ute Indian Tribe of the Uintah & Ouray Reservation, Utah; and Ute Mountain Tribe of the Ute Mountain Reservation, Colorado, New Mexico & Utah.

• Neither the Arapahoe Tribe of the Wind River Indian Reservation, Wyoming, nor the Pueblo of Zia, New Mexico, are recognized as aboriginal to the area from which the human remains and associated funerary objects were removed. However, the disposition agreement, finalized in consultation with the Indian tribes that are recognized as aboriginal to the area from which the human remains and associated funerary objects were removed (Southern Ute Indian Tribe of the Southern Ute Reservation, Colorado; Ute Indian Tribe of the Uintah & Ouray Reservation, Utah; and Ute Mountain Tribe of the Ute Mountain Reservation, Colorado, New Mexico & Utah) includes both the Arapahoe Tribe of the Wind River Indian Reservation, Wyoming, and the Pueblo of Zia, New Mexico. Therefore, the aboriginal land tribes have reached an agreement and do not object to inclusion of the Arapahoe Tribe of the Wind River Indian Reservation, Wyoming, and Pueblo of Zia, New Mexico, in the disposition of these human remains and associated funerary objects.

• Pursuant to 25 U.S.C. 3001(9), the human remains described in this notice represent the physical remains of eight individuals of Native American ancestry.

• Pursuant to 25 U.S.C. 3001(3)(A), the 181 objects described above are reasonably believed to have been placed with or near individual human remains at the time of death or later as part of the death rite or ceremony.

• Pursuant to 43 CFR 10.11(c)(1), the disposition of the human remains is to the Arapahoe Tribe of the Wind River Indian Reservation, Wyoming; Southern Ute Indian Tribe of the Southern Ute Reservation, Colorado; Ute Indian Tribe of the Uintah & Ouray Reservation, Utah; Ute Mountain Ute Tribe of the Ute Mountain Reservation, Colorado, New Mexico & Utah; and the Pueblo of Zia, New Mexico. The National Park Service intends to convey the 181 associated funerary objects to the tribes pursuant to 16 U.S.C. 18f-2.

Additional Requestors and Disposition

Representatives of any Indian tribe that believes itself to be culturally affiliated with the human remains or any other Indian tribe that believes it satisfies the criteria in 43 CFR 10.11(c)(1) should contact Mary Risser, Superintendent, Dinosaur National Monument, 4545 Highway 40, Dinosaur, CO 81610, telephone (970) 374-3001, before March 11, 2011. Disposition of the human remains to Arapahoe Tribe of the Wind River Indian Reservation, Wyoming; Southern Ute Indian Tribe of the Southern Ute Reservation, Colorado; Ute Indian Tribe of the Uintah & Ouray Reservation, Utah; Ute Mountain Ute Tribe of the Ute Mountain Reservation, Colorado, New Mexico & Utah; and the Pueblo of Zia, New Mexico may proceed after that date if no additional requestors come forward.

Dinosaur National Monument is responsible for notifying the Arapahoe Tribe of the Wind River Reservation, Wyoming; Comanche Nation, Oklahoma; Crow Tribe of Montana; Hopi Tribe of Arizona; Navajo Nation, Arizona, New Mexico & Utah; Ohkay Owingeh, New Mexico (formerly Pueblo of San Juan); Paiute Indian Tribe of Utah (Cedar Band of Paiutes, Kanosh Band of Paiutes, Koosharem Band of Paiutes, Indian Peaks Band of Paiutes, and Shivwits Band of Paiutes) [formerly Paiute Indian Tribe of Utah (Cedar City Band of Paiutes, Kanosh Band of Paiutes, Koosharem Band of Paiutes, Indian Peaks Band of Paiutes, and Shivwits Band of Paiutes)]; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; San Juan Southern Paiute Tribe of Arizona; Shoshone-Bannock Tribes of the Fort Hall Reservation of Idaho; Southern Ute Indian Tribe of the Southern Ute Reservation, Colorado; Ute Indian Tribe of the Uintah & Ouray Reservation, Utah; Ute Mountain Tribe of the Ute Mountain Reservation, Colorado, New Mexico & Utah; and the Zuni Tribe of the Zuni Reservation, New Mexico, that this notice has been published.

Dated: February 3, 2011.
Sherry Hutt,
Manager, National NAGPRA Program.

[FR Doc. 2011-2793 Filed 2-8-11; 8:45 am]

BILLING CODE 4312-50-P